DEPARTMENT OF TRANSPORTATION

Federal Railroad Administration

[Docket Number FRA-2007-0030]

Petition for Waiver of Compliance

In accordance with part 211 of title 49 Code of Federal Regulations (CFR), this document provides the public notice that by a document dated June 15, 2016, the New Jersey Transit Corporation (NJ Transit) has petitioned the Federal Railroad Administration (FRA) for an extension of its existing waiver of compliance from certain provisions of the Federal railroad safety regulations. FRA assigned the petition Docket Number FRA-2007-0030.

NJ Transit owns and operates Southern New Jersey Light Rail Transit, a commuter light rail transit system operating for approximately 34 miles between Trenton, NJ, and Camden, NJ. This commuter operation is also known as the River Line and operates over a Conrail freight line. The operation uses non-FRA-compliant diesel multiple unit trainsets during an exclusive passenger period, temporally separated from Conrail's nightly freight operations over the same tracks. NJ Transit first requested FRA approval of the shared use arrangement and the associated regulatory waivers for this operation on July 13, 1999, in Docket Number 1999-6135, and has received subsequent extensions and modifications of this regulatory relief in 2004, 2005, 2006, 2007 (relating to “Extended Temporal Separation Plan”), 2008 (related to further modifications to the temporal separation plan and for allowing increased maximum operating speed of 65 mph with 4 inches of cant deficiency), 2012 (baselining all prior relief into sole Docket Number FRA-2007-0030 so that all related waivers would expire at the same time), and again in 2013 (modification to include relief from 49 CFR part 242, Qualification and Certification of Conductors).

This request is consistent with the requirements set forth in the “Statement of Agency Policy Concerning Jurisdiction Over the Safety of Railroad Passenger Operations and Waivers Related to Shared Use of the Tracks of the General Railroad System by Light Rail and Conventional Equipment,” 65 FR 42529 (July 10, 2000); see also “Joint Statement of Agency Policy Concerning Shared Use of the Tracks of the General Railroad System by Conventional Railroads and Light Rail Transit Systems,” 65 FR 42626 (July 10, 2000).

In its present petition, NJ Transit seeks an extension of the terms and conditions of the 2012 waiver of compliance, and respectfully requests that FRA incorporates the subsequent terms and conditions granted in the 2013 relief so that all waivers are baselined from this time forward. NJ Transit again seeks relief from the following: 49 CFR part 219, Control of Alcohol and Drug Use; 49 CFR 221.13(a) and 221.14(a) (related to rear end marking devices); 49 CFR part 222, Use of Locomotive Horns at Public Highway-rail Grade Crossings (at locations and per the conditions of FRA's November 9, 2006 decision letter); 49 CFR 223.9(c), (d), and 223.15(c) (related to safety glazing); 49 CFR 229.125 (related to vehicle headlights and auxiliary lights); 49 CFR part 231, Railroad Safety Appliance Standards; 49 CFR 234.105(c)(3) (related to grade crossing warning system activation failures); 49 CFR 236.23, 236.502, 236.504, 236.507, 236.566 (related to railroad signal and train control systems); 49 CFR 238.113, 238.115(b)(4), 238.203, 238.205(a), 238.207, 238.209, 238.211, 238.213, 238.215, 238.217, 238.221(a), 238.223, 238.231(i), 238.233, 238.235, 238.237, and 238.301-238.319 (related to various aspects of FRA's passenger equipment safety standards); 49 CFR part 239, Passenger Train Emergency Preparedness; and 49 CFR part 242. NJ Transit also seeks FRA's approval to operate at 4 inches underbalance in accordance with 49 CFR 213.57.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2007-0030) and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received by September 26, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Railroad Safety Chief Safety Officer.

[FR Doc. 2016-18955 Filed 8-9-16; 8:45 am]

BILLING CODE 4910-06-P